DEPARTMENT OF LABOR

Employment and Training Administration

[TA-W-61,751]

Tyco Electronics Corporation; Reading, PA; Notice of Termination of Investigation

Pursuant to Section 221 of the Trade Act of 1974, as amended, an investigation was initiated on June 26, 2007 in response to a worker petition filed by a company official on behalf of workers of Tyco Electronics Corporation, Reading, Pennsylvania.

The petitioner has requested that the petition be withdrawn. Consequently, the investigation has been terminated.

Signed at Washington, DC this 17th day of July 2007.
Richard Church,
Certifying Officer, Division of Trade Adjustment Assistance.

[FR Doc. E7-14422 Filed 7-25-07; 8:45 am]

BILLING CODE 4510-FN-P